OFFICE OF MANAGEMENT AND BUDGET

2 CFR Chapters I and II

Reform of Federal Policies Relating to Grants and Cooperative Agreements; Cost Principles and Administrative Requirements (Including Single Audit Act)

AGENCY: Executive Office of the President, Office of Management and Budget (OMB).

ACTION: Extension of comment period; proposed guidance.

SUMMARY: The Office of Management and Budget is extending the comment period for the Proposed Guidance on Reform of Federal Policies Relating to Grants and Cooperative Agreements; Cost Principles and Administrative Requirements (Including Single Audit Act) published February 1, 2013. The original comment period was scheduled to end on May 2, 2013. Today, OMB is extending the time period in which to provide public comments until June 2, 2013. This will allow interested parties additional time to analyze the issues and prepare their comments.

DATES: To be assured of consideration, comments must be received by OMB electronically through www.regulations.gov docket OMB-2013-0001 no later than 11:59 p.m. Eastern Standard Time (E.S.T.) on June 2, 2013.

ADDRESSES: Comments on this proposal must be submitted electronically at www.regulations.gov. In submitting comments, please search for docket OMB-2013-0001, which includes the full text of this proposal as well as supporting materials, and submit comments there.

FOR FURTHER INFORMATION CONTACT: For general information, please contact Victoria Collin at (202) 395-7791. For more information on grants management and the Council on Financial Assistance Reform please visit www.cfo.gov/cofar.

Daniel I. Werfel,
Controller.

[FR Doc. 2013-06455 Filed 3-20-13; 8:45 am]

BILLING CODE P